DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending September 30, 2004. Names follow in order of: last name, first name, and middle name or initial (if applicable).

Singh, Chingakham Prasanna

Gossage, James Fowler

Gossage, Catherine Donna

Colley, Megan Sara

De Beistegui, Alix

Dlutowski, Joseph Arthur

Lee, Sher May

Maduro, Audley

Miling, Jakob

Peterson, William E

Price, Kenneth Andre

Raisch, Margarete Gertude

Reece, Jane Susan

Becker, Peter Ernest

Tackett, Clarence Rodney

Poppell, Jack Hentz

Towner, Robert Leonard

Yeung, Derek Emory Ting Lap

Jousselin, Georges De La Haye

Ehara, Grace Junko

Rowland, Carole Ann

Burki, Hamidullah Khan

Ryan, Gregory James

Krumlik, Jerry Jaroslav

Barker, Patricia

Barker, Peter G

Laukien, Isolde

Burton, Frank William

Warltier, Andrew Keith

Selinkoff, Eli Richard

Friedman, Jeffrey Charles

Kim, In Sik

Krasnoff, Richard Ira

Ma, Cheryl Wei-Li

Posey, Robert B

Siegel, Wayne Perry

Studer-Jeker, Doris Verena

Voinov, Misha Francine

Burt, Joseph Walter

Chang, Janet Young

Hollmann, Gabriele Ilse

Mannara, Giorgio Antonio

Willoughby, Martina Eleonore

Ahlefeldt-Laurvig, Sara Crisler

Codina, Esther

Kim, Dong J

Thompson, Thomas Lawrence

Nakajima, Yukio

Lee, Kyu Taek

De Escoriaza, Santiago

Butterworth, Gail Ann

Boeckle, Selma

Kim, Young Houn

Butt, Verena Marie

Kaufman, Elise Susan

Johnson, Otis Paul

Forbes-Jaeger, David Gerald

Hyun, Nak Hee Laura

Hiroi, Hisahiko

Zulliger, Deborah Elizabeth

Kreiger, Sherry A

Wilson, Lonita Lenaire

Bruns, David Robert

Tanke-Hansen, Frank

Han, Suna Chung

Geertz, Armin Wilbert

Djoharian, Deon Almeda

Dittrich, Carmen

Christoffersen, Kim Anita Dailey

Baker, Terence Arnold

Baker, Susan Elizabeth Mary

Baek, Shivonne

Kamecke, Wolfgang Bruno

Wurtz, John Robert

Lim, Arthur Soo Whan

Weber, Alfred Ernst

Strom, Ingvar

Pretorius, Carrie Ruth

McKinney, Johnney Larry

Kuwahara, Momoyo

Imparato, Joseph Anthony

Hui, Xiao-Hui

Giegerich, Marc James

Geist, Gordon Alfred

Cronin, Maureen Lisa

Buzer, Laurence Steven

Wong, Man Kay

Railey, Jessica

Flanagan, James Patrick

Steinberg, Lutz

Nielsen, Kaung Me

Hong, Helen Sueng Hyo

Delgado, Rashid Alexander

Sands, James Andrew

Mullins, Mitsu

Crounk, Michiko Ogawa

Dornier, Pascal C

Kamecke, Elfriede Marie

Ljung-Lapychak, Maud M

Stewart, Carole Anne

Simmons, Kim Olivia

Dailey Strand, Mona Catherine

Rogers, Brian David

Prager, Hans Edward

Paik, Seung-Hyun Daniela

Paik, Hannah

Muncrief, Esmond Dale

Moon, Kyoung-Won

Martin, Terri Lee

Sirnes Lyngstad, Elisabeth Margrethe

Bembridge, Maurice

Eyre, Barry

Berry, Charles Orin

Rowland, Thomas Keith

Tsao, James Chen

Wili, Audrey Phyllis

Pirkelbauer, Patricia

Reussler, Bernice

Salles, Joao Moreira

Schwaninger, Peter Steven

Serrano, Melanie Laura Bonita

Thompson, Lynette Sabrina

McVeigh, Pamela Osborn

Wigand, Barbara Maria

Snyder, Michael Bernhard

Winkler, Robin Jamison

Woessner, Allison Earl

Wong, Amabel May Bo

Walsh, Steven Robert

Crouch, Kenneth L

Acker, William Lewis

Walsh, Gerta

McNeil, Nina Diana

Barberi, Carol Judd

Brendel, Gabriela Ann

Achtman, Jane Valesca

Craig, William Berry

Ahn, Philip Young-Joon

Davies, Michele Clarke

Fester, Evelyn Corina

Hirst, Diane Finiello Zervas

Jawad, Said T

Kiiveri, Pertti Juhani

Loechel, Steven Charles

MacLeod, Marcia Renee Kalb

Chipman, Daniel David

Fabian, Ursula

Taylor, Paul Guillaume

Faiveley , Terry

Mintz, Helen Harriet

Miller, Robin Frances

Hall, Thomas Lee

Hillyer, John Kenneth

Smootz, Mary Elanne

Thomson, Neal Joshua

Neubronner-Barnes, Dorothea Louise

Burd, Donald Charles

Plewa, Hildegarde Marie Theresa

Beldi, Ivan

Von Goertz, Hans-Georg

Marsella, Roberto

Klein, Christine Petra

Stone, Bettie Graves

Hudson, Brigitte Regine

Katz, Jana Chiara

Sacre, James Jean

Fisher (Fischer), Michael D.

Pierre-Traves, Alexandre Gregory

Pardo, Joan Elaine

Steinmetz Jr, George Evans

Krahm, Agnes Terese

Stewart, Samuel Jarrett

Mc Cann, Raymond Edward

Chan Sonny Yat-Fai

Cheong, Ivy Cheng-Moey

Weil, David Frederick

Corman, Valerie Ann

Hsu, Hubert Kaishun

Coates, Stephen Gregory

Kendall-Tobias, Michael

Hung, Sylvia Sau Wah Wong

Weldon (a.k.a. Flash Qfiasco), Mark Steven

Wetzler, Thomas Christian

Chen, Pao-Yin

Lee, Hyun Sook

Brown, George Albert

Loverde, Elizabeth Rosaria

White, Karen Smith

Wolfston, Patricia Siegbert

Ting, Carter Richard

Frosini, Linda Fischer

Kang, Sam Ye

Wong, Minnie Shun-Kwai

Coghill, Jeremy Calvert

Chou, Hui Ying Kao

Relecom, Thibault Marie Mendel

Santiago, Oscar

Leung, Wing Cheong

Sylvester, Richard Walter

Grant, Mary Elizabeth

Raghupathy, Radha Velamur

Kendall-Tobias, Chantal

Bianco, Michaela Bettina

Dykan, Swiatoslav Gregory

Wong, Wilson Po Hang

Frische, Barbara

Eisenberg, Pamela

Sasayama (nee Hanakata), Anne Mariko

Park, Jon

Leung, Kwong Wai

Warlick, Thomas Patrick

Gales, Amanda Elaine

Gibbs, Elizabeth Church

Boehm, Andreas Gottfried

Motz, Petra Suzanne

Guntner, Luciane

Stearns, Thomas Appleby

Ng, Ellen Wing Hang

Holm, Wendy Rosemary

Bahoshy, Philip Yousif

Marquis, Claire

Gales, Jennifer Elizabeth

O'Flaherty, April Lynne

Kuehn, Benjamin Bruce

Katz, Michael Simon

Wright, Melissa D

Scherer, Adolph

Wright, Nicholas John

Ko, Richard

Rogers, Stanford M

Deorio, David James

Eronat, Friedhelm

Hamsley, Nicole

Erwin, Dennis Jack

Bianco, Deborah Ann

Hull, Orris Michael

Ojjeh, Lana

Chow, Alison Chun Cheong

Heaslip, Michael Thomas

Guerlain, Ariane Duplaix

Bell, Catherine Anne

Drace Jr, Charles Albert

Zekkariyas

Dated: October 4, 2004.
Tracy Harmon,
Examination Operation, Philadelphia Compliance Services.

[FR Doc. 04-23599 Filed 10-20-04; 8:45 am]

BILLING CODE 4830-01-P